DEPARTMENT OF TRANSPORTATION

Federal Aviation Administration

[Summary Notice No. PE-2003-79]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on December 23, 2003.
Donald P. Byrne,
Assistant Chief Counsel for Regulations.

Dispositions of Petitions

Docket No.: FAA-2002-13273.

Petitioner: Stuart Air Show.

Section of 14 CFR Affected: 14 CFR 135.251, 135.255, and 135.353, and appendices I and J to part 121.

Description of Relief Sought/Disposition: To permit the Visiting Nurse Association to conduct local sightseeing flights at the Martin County Airport, Stuart, Florida, for the Stuart Air Show on November 8 and 9, 2003, for compensation or hire, without complying with certain any-drug and alcohol misuse prevention requirements of part 135.

Grant, 10/23/2003, Exemption No. 8159

Docket No.: FAA-2003-16344.

Petitioner: Sky Care.

Section of 14 CFR Affected: 14 CFR 135.143(c)(2).

Description of Relief Sought/Disposition: To permit Sky Care to operate certain aircraft under part 135 without a TSP-C112 (Mode S) transponder installed in those aircraft.

Grant, 10/31/2003, Exemption No. 8165

Docket No.: FAA-2001-11025.

Petitioner: Miller Aviation.

Section of 14 CFR Affected: 14 CFR 135.143(c)(2).

Description of Relief Sought/Disposition: To permit Miller Aviation to operate certain aircraft under part 135 without a TSP-C112 (Mode S) transponder installed in those aircraft.

Grant, 10/31/2003, Exemption No. 7663A

Docket No.: FAA-2002-12354.

Petitioner: Keystone Helicopter Corporation.

Section of 14 CFR Affected: 14 CFR 135.143(c)(2).

Description of Relief Sought/Disposition: To permit Keystone Helicopter Corporation to operate certain aircraft under part 135 without a TSO-C112 (Mode S) transponder installed in those aircraft.

Grant, 10/31/2003, Exemption No. 7783A

Docket No.: FAA-2002-11493.

Petitioner: Central Copters, Inc.

Section of 14 CFR Affected: 14 CFR 135.143(c)(2).

Description of Relief Sought/Disposition: To permit Central Copters, Inc., to operate certain aircraft under part 135 without a TSO-C112 (Mode S) transponder installed in those aircraft.

Grant, 10/31/2003, Exemption No. 7724A

Docket No.: FAA-2003-16276.

Petitioner: Federal Express Corporation.

Section of 14 CFR Affected: 14 CFR 121.583(a).

Description of Relief Sought/Disposition: To permit Federal Express Corporation to transport medical personnel assigned to Project Orbis without complying with all the passenger-carrying requirements in §§ 121.291, 121.309(f), 121.310, and 121.391.

Grant, 11/3/2003, Exemption No. 5129F

Docket No.: FAA-2001-10799.

Petitioner: Garrett Aviation Services.

Section of 14 CFR Affected: 14 CFR 145.45(f).

Description of Relief Sought/Disposition: To permit Garrett Aviation Services to place an maintain its inspection procedures manual (IPM) in strategically located areas throughout its facility rather than give a copy of the IPM to each of its supervisory and inspection personnel.

Grant, 11/3/2003, Exemption No. 7089B

Docket No.: FAA-2003-15045.

Petitioner: T.B.M., Inc.

Section of 14 CFR Affected: 14 CFR 36.1581(d).

Description of Relief Sought/Disposition: To permit T.B.M., Inc. to operate its Douglas DC-6 and Douglas DC-7 aircraft in aerial fire suppression operations at landing weights greater than the maximum landing weight.

Grant, 11/3/2003, Exemption No. 2745C

Docket No.: FAA-2003-15716.

Petitioner: Triad International Maintenance Corporation.

Section of 14 CFR Affected: 14 CFR 145.45(f).

Description of Relief Sought/Disposition: To permit Triad International Maintenance Corporation to place and maintain its inspection procedures manual (IPM) in its hangar library and inspection office rather than give a copy to each of its supervisory and inspection personnel.

Grant, 11/4/2003, Exemption No. 8166

Docket No.: FAA-2003-16199.

Petitioner: Pacific Airways, Inc.

Section of 14 CFR Affected: 14 CFR 135.203(a)(1).

Description of Relief Sought/Disposition: To permit Pacific Airways, Inc., to conduct operations under visual flight rules outside controlled airspace, over water, at an altitude below 500 feet above the surface.

Grant, 11/4/2003, Exemption No. 8167

Docket No.: FAA-2002-11499.

Petitioner: Mr. Randy L. Bailey.

Section of 14 CFR Affected: 14 CFR 91.109(a) and (b)(3).

Description of Relief Sought/Disposition: To permit Mr. Randy L. Bailey to conduct certain flight instruction and simulated instrument flights to meet the recent experience requirements in Beechcraft Bonanza, and Travel Air airplanes equipped with a functioning throwover control wheel in place of functioning dual controls.

Grant, 11/4/2003, Exemption No. 7734A

Docket No.: FAA-2001-9772.

Petitioner: Leading Edge Aviation Services, Inc.

Section of 14 CFR Affected: 14 CFR 135.143(c)(2).

Description of Relief Sought/Disposition: To permit Leading Edge Aviation Services, Inc., to operate certain aircraft under part 135 without a TSO-112C (Mode S) transponder installed in those aircraft.

Grant, 11/5/2003, Exemption No. 8168

Docket No.: FAA-2003-16412.

Petitioner: Richland Aviation.

Section of 14 CFR Affected: 14 CFR 135.143(c)(2).

Description of Relief Sought/Disposition: To permit Richland Aviation to operate certain aircraft under part 135 without a TSO-112C (Mode S) transponder installed in those aircraft.

Grant, 11/7/2003, Exemption No. 8169

Docket No.: FAA-2001-10793.

Petitioner: Taconite Aviation, Inc.

Section of 14 CFR Affected: 14 CFR 135.145(c)(2).

Description of Relief Sought/Disposition: To permit Taconite Aviation, Inc., to operate certain aircraft under part 135 without a TSO-112C (Mode S) transponder installed in those aircraft.

Grant, 11/7/2003, Exemption No. 6735C

Docket No.: FAA-2001-10605.

Petitioner: United Air Lines, Inc.

Section of 14 CFR Affected: 14 CFR 121.440(a) and SFAR 58, paragraph 6(b)(3)(ii)(A).

Description of Relief Sought/Disposition: To permit United Air Lines, Inc., to meet line check requirements using an alternative line check program.

Grant, 11/7/2003, Exemption No. 3451N

Docket No.: FAA-2002-12573.

Petitioner: Regional Aviation Partners.

Section of 14 CFR Affected: 14 CFR 119.21(a)(1).

Description of Relief Sought/Disposition: To permit members of Regional Aviation Partners, that are direct air carriers conducting domestic operations, in accordance with § 119.3 with airplanes having a passenger seat configuration of more than 9 and less than 31 seats, excluding and crewmember seat, required to conduct operations under part 121 to instead conduct operations under part 135.

Denial, 11/10/2003, Exemption No. 8170

Docket No.: FAA-2001-10919.

Petitioner: Gulfstream Aerospace Corporation.

Section of 14 CFR Affected: 14 CFR 145.45(f).

Description of Relief Sought/Disposition: To permit Gulfstream Aerospace Corporation to give copies of its Inspection Procedures Manual (IPM) to individuals as necessary and make the manual available electronically to all other employees, rather than give a paper copy of the IPM to each of its supervisory and inspection personnel.

Grant, 11/20/2003, Exemption No. 7706A

Docket No.: FAA-2001-10452.

Petitioner: Air Logistics, LLC.

Section of 14 CFR Affected: 14 CFR 145.45(f).

Description of Relief Sought/Disposition: To permit Air Logistics, LLC, to place and maintain its inspection procedures manual (IPM) in a number of fixed locations within the facility, in lieu of giving a copy of its IPM to each of its supervisory and inspection personnel.

Grant, 11/20/2003, Exemption No. 7097B

Docket No.: FAA-2001-9783.

Petitioner: Lider Signature S.A.

Section of 14 CFR Affected: 14 CFR 145.47(b).

Description of Relief Sought/Disposition: To permit Lider Signature S.A., to substitute the calibration standards of the Instituto Nacional de Metrologia, Normalizacao e Qualidade Industrial, Brazil's national standards organization, for the calibration standards of the U.S. National Institute of Standards and Technology, for testing of its inspection and test equipment.

Grant, 11/19/2003, Exemption No. 8177

Docket No.: FAA-2001-10676.

Petitioner: Air Transport Association.

Section of 14 CFR Affected: Appendix H to part 121.

Description of Relief Sought/Disposition: To permit member airlines of the Air Transport Association to use level C simulators for pilot-in-command initial and upgrade training and checking.

Grant, 11/20/2003, Exemption No. 5400F

Docket No.: FAA-2001-10800.

Petitioner: Sierra industries, Inc.

Section of 14 CFR Affected: 14 CFR 91.9(a) and 91.531(a)(1) and (2).

Description of Relief Sought/Disposition: To permit certain qualified pilots of its Cessna Citation Model 500 series airplanes equipped with supplemental type certificate (STC) No. SA8176SW or STC No. SA09377SC and either STC No. SA2172NM or STC No. SA645NW to operate those aircraft without a pilot who is designated as second in command.

Grant, 11/20/2003, Exemption No. 5517G

Docket No.: FAA-2003-16399.

Petitioner: New World Aviation, Inc.

Section of 14 CFR Affected: 14 CFR 135.152(a).

Description of Relief Sought/Disposition: To permit New World Aviation to operate Business Aircraft Group's 1969 Gulfstream Aerospace G-1159 aircraft under part 135 without the aircraft being equipped with an approved digital flight data recorder.

Denial, 11/24/2003, Exemption No. 8181

Docket No.: FAA-2000-8533.

Petitioner: Israel Aircraft Industries, Ltd.

Section of 14 CFR Affected: 14 CFR 61.77(a).

Description of Relief Sought/Disposition: To permit pilots employed by, or under contract to, Israel Aircraft Industries, Ltd., to operate any U.S.-registered airplane, for which they are licensed by the Israeli CAA, to the United States from Israel, ferry and deliver U.S.-registered airplanes from Israel to other countries for its customers, and perform test and acceptance flights on U.S.-registered airplanes to its customers.

Denial, 11/24/2003, Exemption No. 8180

Docket No: FAA-2003-14819.

Petitioner: AiRadio Corporation, d.b.a. ElectroSonics.

Section of 14 CFR Affected: 14 CFR 145.57(a) and 145.09(d)(3) and (4).

Description of Relief Sought/Disposition: To permit AiRadio Corporation, d.b.a. ElectroSonics (ElectroSonics) to use manufacturer's service manuals, instructions, and service bulletins provided by the aircraft owners or operators rather than maintain current copies of these documents at the repair station for each aircraft ElectroSonics may repair or alter.

Denial, 10/27/2003, Exemption No. 8161

Docket No.: FAA-2003-15792.

Petitioner: Northwest Airlines, Inc.

Section of 14 CFR Affected: 14 CFR 121.505(b).

Description of Relief Sought/Disposition: To permit pilots operating a single Northwest Airlines, Inc., airplane to be on duty for more than 16 hours during 24 consecutive hours.

Denial, 12/1/2003, Exemption No. 8182

Docket No: FAA-2001-9353.

Petitioner: Promech, Inc.

Section of 14 CFR Affected: 14 CFR 135.203(a)(1).

Description of Relief Sought/Disposition: To permit certain certificate holders conducting operations under part 135 to operate seaplanes inside the Ketchikan, Alaska, Class E airspace under Special Visual Flight Rules below 500 feet above surface.

Grant, 11/24/2003, Exemption No. 4760J

Docket No.: FAA-2001-9142.

Petitioner: Honeywell International, Inc., Systems, and Services.

Section of 14 CFR Affected: 14 CFR 21.325(b)(3).

Description of Relief Sought/Disposition: To permit Honeywell International, Inc., Systems, and Services (Honeywell ES&S) to issue export airworthiness approval tags for class II and class III products manufactured at Honeywell's Singapore facility, which is an approved supplier to Honeywell ES&S under parts manufactured approval No. PQ1222NM.

Grant, 11/17/2003, Exemption No. 7075C

Docket No.: FAA-2001-10475.

Petitioner: Air Transport Association of America.

Section of 14 CFR Affected: 14 CFR 45.11(a) and (d), 91.417(d), and paragraph (d) of appendix B to part 43.

Description of Relief Sought/Disposition: To permit aircraft to be operated without complying with the requirements pertaining to (1) the location of the aircraft identification plates and (2) the carriage of FAA Form 337 as evidence of installation approval for fuel tank installation in the passenger compartment or a baggage compartment.

Grant, 11/10/2003, Exemption No. 4902I

Docket No.: FAA-2003-16576.

Petitioner: Martinair, Inc.

Section of 14 CFR Affected: 14 CFR 135.143(c)(2).

Description of Relief Sought/Disposition: To permit Martinair, Inc., to operate certain aircraft under part 135 without a TSO-112C (Mode S) transponder installed in those aircraft.

Grant, 12/4/2003, Exemption No. 8186

Docket No.: FAA-2001-11050.

Petitioner: Big Sky Transportation Company d.b.a. Big Sky Airlines.

Section of 14 CFR Affected: 14 CFR 121.345(c)(2).

Description of Relief Sought/Disposition: To permit Big Sky Transportation Company d.b.a. Big Sky Airlines to operate certain aircraft under part 121 without a TSO-112C (Mode S) transponder installed in those aircraft.

Grant, 12/4/2003, Exemption No. 7685A

Docket No.: FAA-2003-16561.

Petitioner: Alaska Coastal Airlines, Inc., d.b.a. Wings Airways.

Section of 14 CFR Affected: 14 CFR 135.203(a)(1).

Description of Relief Sought/Disposition: To permit Alaska Coastal Airlines, Inc., d.b.a. Wings Airways to conduct operations under visual flight rules outside controlled airspace, over water, at an altitude below 500 feet above the surface.

Grant, 12/2/2003, Exemption No. 8185

Docket No.: FAA-2001-10384.

Petitioner: Weary Warriors Squadron, Inc.

Section of 14 CFR Affected: 14 CFR 91.315, 119.5(g), and 119.21(a).

Description of Relief Sought/Disposition: To permit Weary Warriors Squadron, Inc., to operate its North American B-25 for the purpose of carrying passengers for compensation or hire on local flights for educational and historical purposes.

Grant, 12/2/2003, Exemption No. 6786D

Docket No.: FAA-2003-16518.

Petitioner: Helicopter Association International.

Section of 14 CFR Affected: 14 CFR 61.197(b)(2).

Description of Relief Sought/Disposition: To permit certificated flight instructors who renewed their certificates at the Helicopter Association International's HELI-EXPO in February 2002, and whose certificates are due to expire on February 29, 2004, and extension period to March 31, 2004.

Denial, 12/2/2003, Exemption No. 8184

Docket No.: FAA-2002-11491.

Petitioner: Cessna Aircraft Company.

Section of 14 CFR Affected: 14 CFR 91.9(a) and 91.531(a)(1) and (2).

Description of Relief Sought/Disposition: To permit the Cessna Aircraft Company to allow certain qualified pilots of Cessna Citation Model 550, S550, 552, or 560 aircraft to operate those aircraft without a pilot who is designated as second in command.

Grant, 12/2/2003, Exemption No. 4050M

[FR Doc. 03-32084 Filed 12-30-03; 8:45 am]

BILLING CODE 4910-13-P